DEPARTMENT OF ENERGY

Federal Energy Regulatory Commission

Notice of Unlicensed Project Review and Soliciting Comments, Protests and Motions To Intervene ¹

March 13, 2003.

Take notice that the following review has been initiated by the Commission:

¹ The purpose of this notice is to gather information to determine whether the existing project meets any or all of the jurisdictional criteria noted in paragraph (i).

a. Review Type: Unlicensed Project.

b. Docket No: UL03-1-000.

c. Owner: William Braamse.

d. Name of Project: Rock River Beach Dam Project.

e. Location: The project is located on the Rock River between Lake Superior and State Highway M-28, T. 47 N., R. 21 W., sec. 15, Latitude 46°28′21.73″, Longitude 86°55′36.52″, Alger County, Michigan.

f. Owner Contact: William Braamse, E4002 State Hwy. M-28, Au Train, MI 49806, telephone number (906) 892-8112.

g. FERC Contact: Any questions on this notice should be addressed to Diane M. Murray (202) 502-8838, or e-mail address: diane.murray@ferc.gov.

h. Deadline for filing comments, protests, and/or motions to intervene: April 14, 2003.

All documents (original and eight copies) should be filed with: Magalie R. Salas, Secretary, Federal Energy Regulatory Commission, 888 First Street, NE., Washington, DC 20426. Comments, protests, and interventions may be filed electronically via the Internet in lieu of paper. See 18 CFR 385.2001(a)(1)(iii) and the instructions on the Commission's Web site at http://www.ferc.gov under the “e-filing” link. The Commission strongly encourages electronic filings.

Please include the docket number (UL03-1-000) on any comments, protests, or motions to intervene filed.

i. Pursuant to Section 23(b)(1) of the Federal Power Act ( FPA), 16 U.S.C. 817(1), a non-federal hydroelectric project must (unless it has a still-valid pre-1920 federal permit) be licensed if it: (1) Is located on a navigable water of the United States; (2) occupies lands of the United States; (3) utilizes surplus water or water power from a government dam; or (4) is located on a body of water over which Congress has Commerce Clause jurisdiction, project construction occurred on or after August 26, 1935, and the project affects the interests of interstate or foreign commerce.

j. Individuals desiring to be included on the Commission's mailing list should so indicate by writing to the Secretary of the Commission.

k. Comments, Protests, or Motions to Intervene—Anyone may submit comments, a protest, or a motion to intervene in accordance with the requirements of Rules of Practice and Procedure, 18 CFR 385.210, .211, .214. In determining the appropriate action to take, the Commission will consider all protests, but only those who file a motion to intervene in accordance with the Commission's Rules may become a party to the proceeding. Any protests or motions to intervene must be received on or before the specified comment date for the particular application.

l. Filing and Service of Responsive Documents—Any filings must bear in all capital letters the title “COMMENTS”, “PROTEST”, OR “MOTION TO INTERVENE”, as applicable, and the Docket Number of the particular review.

m. Agency Comments—Federal, state, and local agencies are invited to file comments on the described review. If an agency does not file comments within the time specified for filing comments, it will be presumed to have no comments.

Magalie R. Salas,
Secretary.

[FR Doc. 03-6601 Filed 3-18-03; 8:45 am]

BILLING CODE 6717-01-P